ENVIRONMENTAL PROTECTION AGENCY

[ER-FRL-8990-8]

Environmental Impacts Statements; Notice Of Availability

Responsible Agency: Office of Federal Activities, General Information (202) 564-1399 or http://www.epa.gov/compliance/nepa/.

Weekly Receipt of Environmental Impact Statements Filed 05/31/2010 Through 06/04/2010 Pursuant to 40 CFR 1506.9

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100208, Draft EIS, USA, VA, Fort Monroe U.S. Army Garrison Base Realignment and Closure (BRAC) 2005 Disposal and Reuse of Surplus Non-reverting Property, Fort Monroe, VA, Comment Period Ends: 07/12/2010, Contact: Bob Ross 703-602-2878.

EIS No. 20100209, Final EIS, FHWA, NC, Monroe Connector/Bypass Project, Construction from Near I-485 at US 74 to US 74 between the Tons of Wingate and Marshville, Funding and U.S. COE 404 Permit, North Carolina Turnpike Authority, Meckleburg and Union Counties, NC, Wait Period Ends: 07/12/2010, Contact: Jennifer Harris 919-571-3004.

EIS No. 20100210, Draft EIS, USACE, 00, Fargo-Moorhead Metropolitan Area Flood Risk Management, Proposed Construction of Flood Protection Measures, Red River of the North Basin, ND and MN, Comment Period Ends: 07/26/2010, Contact: Aaron Snyder 651-290-5489.

EIS No. 20100211, Final EIS, FHWA, NV, I-15 Corridor Improvement and Local Arterial Improvements Project, Collectively Known as Project NEON, To Improve the Safety and Travel Efficiency in the I-15 Corridor, City of Las Vegas, Clark County, NV, Wait Period Ends: 07/16/2010, Contact: Abdelmoez Abdalla 775-687-1204.

EIS No. 20100212, Draft EIS, BLM, NM, Taos Resource Management Plan, To Provide Broad-Scale Guidance for the Management of Public Lands and Resource Administered by Taos Field Office, Colfax, Harding, Los Alamos, Mora, Rio Arriba, Santa Fe, Taos and Union Counties, NM, Comment Period Ends: 09/08/2010, Contact: Brad Higdon 575-751-4725.

EIS No. 20100213, Final EIS, FRA, PA, Pennsylvania High-Speed Maglev Project, Construction between Pittsburgh International Airport (PIA) and Greensburg Area, The Pennsylvania Project of Magnetic Levitation Transportation Technology Deployment Program, Allegheny and Westmoreland Counties, PA, Wait Period Ends: 07/16/2010, Contact: John Winkle 202-493-6067.

EIS No. 20100214, Draft EIS, FHWA, UT, Provo Westside Connector Project, Improvements to Interstate 15/University Avenue/1860 South Interchange to 3110 West Street in Provo, UT, Comment Period Ends: 08/10/2010, Contact: Edward Woolford 801-963-0182.

EIS No. 20100215, Final EIS, USFS, CO, Hermosa Park/Mitchell Lakes Land Exchange Project, Proposed Land Exchange between Federal and Non-Federal Lands, Implementation, Federal Land in LaPlata County and Non-Federal Land in San Juan County, CO, Wait Period Ends: 07/12/2010, Contact: Cindy Hockelberg 970-884-1418.

EIS No. 20100216, Draft Supplemental EIS, USACE, LA, Louisiana Coastal Area (LCA)—Louisiana, Terrebonne Basin Barrier Shoreline Restoration, Feasibility Study, Implementation. Terrebonne Parish, LA Comment Period Ends: 07/26/2010, Contact: Dr. William P. Klein, Jr., 504-862-2540.

Amended Notices

EIS No. 20100205, Draft Supplement, USFS, CA, Beaverslide Timber Sale and Fuel Treatment Project, Additional Analysis and New Information, Six Rivers National Forest, Mad River Range District, Trinity County, CA, Comment Period Ends: 07/26/2010, Contact: Thomas Hudson 707-574-6233.

Revision to FR Notice Published 06/04/2010: Due to Non-Distribution of EIS the Comment Period is being Recalculated from 07/19/2010 to 07/26/2010.

Dated: June 8, 2010.
Ken Mittelholtz,
Deputy Director, NEPA Compliance Division, Office of Federal Activities.

[FR Doc. 2010-14080 Filed 6-10-10; 8:45 am]

BILLING CODE 6560-50-P